UTAH RECLAMATION MITIGATION AND CONSERVATION COMMISSION

Notice of Availability of the Diamond Fork Canyon Group-Site Campground Draft Environmental Assessment

AGENCY: Utah Reclamation Mitigation and Conservation Commission.

ACTION: Notice of availability of the Draft Environmental Assessment for constructing a group-site campground in Diamond Fork Canyon, Utah County, Utah.

SUMMARY: The Spanish Fork Ranger District of the Uinta National Forest proposes to design, construct, and operate a group-site campground in Diamond Fork with a capacity of approximately 475 PAOT (people at one time). The Utah Reclamation Mitigation and Conservation Commission is proposing to fund the project as part of meeting the recreation development responsibilities for developed camping identified in the Reclamation Projects Authorization and Adjustment Act of 1992, as amended (Pub. L. 102-575; Pub. L. 106-140).

The project area is located approximately 12 miles south east of Spanish Fork in Utah County, Utah. The group-site facility would encompass approximately 25 acres. The campground would include four-75 PAOT sites, one-100 PAOT site, three-25 PAOT sites, and five-4 unit vault toilets (or flush toilets if the water source allows), paved access road and spurs, shade shelters, a water system, trail system, the establishment of vegetation, a host site and an information/fee station. The proposed project would be constructed no earlier than fall 2004.

The draft Environmental Assessment is available for review and comment; comments will be used to help complete a final analysis and to make a decision on the proposed action and alternatives.

To maintain eligibility for appeal, each individual or, for an organization, an authorized representative, must submit substantive comments and must sign the comments or otherwise verify their identity.

Received comments, including names and addresses of those who comment, will be considered part of the public record for this project and available for public inspection, and will be released if requested under the Freedom of Information Act.

DATES: Written comments on the Draft Environmental Assessment are invited until September 15, 2004.

ADDRESSES: You may submit substantive comments by any of the following methods:

• E-mail: comments-intermtn-uinta-spanishfork@fs.fed.us.

• Mail: William A.R. Ott, Spanish Fork District Ranger, 44 West 400 North, Spanish Fork, Utah 84660.

• Hand Deliver: You may hand-deliver your comments to the above address from 8 a.m. to 4:30 p.m., Monday through Friday, excluding Federal holidays.

• FAX: (801) 798-3050.

FOR FURTHER INFORMATION CONTACT: Duane Resare, Diamond Fork Group-Site Campground Project Manager, (435) 623-3397 or (801) 361-1654; or Richard Mingo, Mitigation Commission, (801) 524-3146, rmingo@uc.usbr.gov; or additional information may be obtained through the Internet at: http://www.fs.fed.us/r4/uinta/projects/projects/proposed_projects.shtml.

Dated: August 9, 2004.
Michael C. Weland,
Executive Director.

[FR Doc. 04-18867 Filed 8-17-04; 8:45 am]

BILLING CODE 4310-05-P